DEPARTMENT OF COMMERCE

National Oceanic and Atmospheric Administration

[RTID 0648-XE435]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (MAFMC) will hold a public workshop to collect input on the commercial Scup Gear Restricted Areas (GRA). This public workshop will be facilitated by the Cornell Cooperative Extension of Suffolk County-Marine Program to incorporate commercial fishing industry involvement in the MAFMC funded project, “Utilizing Collaborative Strategies to Assess and Adapt Scup Gear Restricted Areas (GRAs) in Response to Climate Change.”

DATES: The meeting will be held on Wednesday, November 20, 2024, from 9:45 a.m. until 3 p.m., EDT. For agenda details, see SUPPLEMENTARY INFORMATION.

ADDRESSES: This meeting will be conducted in person at three venues simultaneously with a virtual option available.

The meeting locations are:

• Superior Trawl Inc., 55 State Street, Narraganset, RI 02882, telephone: (401) 782-1171;

• Cornell Cooperative Extension, 423 Griffing Avenue, Riverhead, NY 11901, telephone: 631-727-7850; and

• Lunds Fisheries, 997 Ocean Drive, Cape May, NJ 08204, telephone: (609) 884-7600.

Webinar registration details will be posted to the calendar at www.mafmc.org prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council in coordination with the Cornell Cooperative Extension of Suffolk County-Marine Program will sponsor this public meeting to collect public input on the current commercial Scup GRAs. Topics discussed at the meeting will include scup management history and stock status, industry input on socioeconomic impacts of GRAs, primary drivers of scup discards and modeling strategies using existing data sources. This public meeting is a deliverable to achieve the project's goal to develop and implement a comprehensive program to investigate potential modifications to the scup GRAs using fisheries and environmental data and industry input. Additional information, background documents, and instructions for providing written comments will be posted to the Council's website at: https://www.mafmc.org/.

Special Accommodations

These meetings are physically accessible to people with disabilities. Requests for sign language interpretation or other auxiliary aid should be directed to Shelley Spedden, (302) 526-5251, at least 5 days prior to the meeting date.

Authority: 16 U.S.C. 1801 et seq.

Dated: October 28, 2024.
Rey Israel Marquez,
Acting Deputy Director, Office of Sustainable Fisheries, National Marine Fisheries Service.

[FR Doc. 2024-25395 Filed 10-30-24; 8:45 am]

BILLING CODE 3510-22-P